DEPARTMENT OF COMMERCE

United States Patent and Trademark Office

Privacy Act of 1974; System of Records

AGENCY: United States Patent and Trademark Office, Commerce.

ACTION: Notice of amendment of Privacy Act system of records.

SUMMARY: In accordance with the requirements of the Privacy Act of 1974, as amended, the United States Patent and Trademark Office (USPTO) is amending the system of records currently listed under “COMMERCE/PAT-TM-8 Patent Application Secrecy Order Files.” This action is being taken to update the Privacy Act notice. We invite the public to comment on the amendments noted in this publication.

DATES: Written comments must be received no later than April 29, 2013. The amendments will become effective as proposed on April 29, 2013, unless the USPTO receives comments that would result in a contrary determination.

ADDRESSES: You may submit written comments by any of the following methods:

• Email: Raul.Tamayo@uspto.gov. Include “Privacy Act PAT-TM-8 comment” in the subject line of the message.

• Fax: (571) 273-7728, marked to the attention of Raul Tamayo.

• Mail: Raul Tamayo, Office of Patent Legal Administration, Office of the Deputy Commissioner for Patent Examination Policy, United States Patent and Trademark Office, P.O. Box 1450, Alexandria, VA 22313-1450.

• Federal Rulemaking Portal: http://www.regulations.gov.

All comments received will be available for public inspection at the Federal rulemaking portal located at www.regulations.gov.

FOR FURTHER INFORMATION CONTACT: Raul Tamayo, Office of Patent Legal Administration, Office of the Deputy Commissioner for Patent Examination Policy, United States Patent and Trademark Office, P.O. Box 1450, Alexandria, VA 22313-1450, (571) 272-7728.

SUPPLEMENTARY INFORMATION: The United States Patent and Trademark Office (USPTO) is giving notice of an amendment to a system of records that is subject to the Privacy Act of 1974. This system of records maintains information on patent applicants and their authorized representatives for applications that may fall under the secrecy provisions of 35 U.S.C. 181 through 183. The Privacy Act notice is being updated with the current address and departmental information for the system location and system manager. The routine uses of records maintained in the system have been updated to include use in law enforcement, audits and oversight activities, and distribution to contractors, all uses commonly published in other agency system of records notices. The rule references for the notification procedure, contesting record procedures, and exemptions have been updated to correspond to the current statutes and rules for those items as related to the USPTO.

The amended Privacy Act system of records notice, “COMMERCE/PAT-TM-8 Patent Application Secrecy Order Files,” is published in its entirety below.

COMMERCE/PAT-TM-8

System name:

Patent Application Secrecy Order Files.

Security classification:

Classified and Unclassified.

System location:

Patent Examining Operation, Technology Center 3600, United States Patent and Trademark Office, 501 Dulany Street, Alexandria, VA 22314.

Categories of individuals covered by the system:

Applicants including inventors, legal representatives for deceased or incapacitated inventors, and other persons authorized by law to make applications for patent.

Categories of records in the system:

Identification of patent application and applicant including application serial number, filing date, title of invention, applicant's or inventor's address and addresses of applicant's duly appointed representatives.

Authority for maintenance of the system:

35 U.S.C. 1, 6, and 181 through 183.

Purpose(s):

To carry out the duties of the USPTO under 35 U.S.C. 181 through 183 regarding the disclosure or publication of applications or patents that may be detrimental to national security.

Routine uses of records maintained in the system, including categories of users and the purposes of such uses:

(1) Referral to authorized Government agencies under 35 U.S.C. 181 for determination of the requirement for a secrecy order, and notification of the applicant or his duly appointed representative of such secrecy order.

(2) Routine uses will include disclosure for law enforcement purposes to the appropriate agency or other authority, whether federal, state, local, foreign, international or tribal, charged with the responsibility of enforcing, investigating, or prosecuting a violation of any law, rule, regulation, or order in any case in which there is an indication of a violation or potential violation of law (civil, criminal, or regulatory in nature).

(3) Routine uses will include disclosure to an agency, organization, or individual for the purpose of performing audit or oversight operations as authorized by law, but only such information as is necessary and relevant to such audit or oversight function.

(4) Routine uses will include disclosure to contractors and their agents, grantees, experts, consultants, and others performing or working on a contract, service, grant, cooperative agreement, or other work assignment for the United States Patent and Trademark Office, when necessary to accomplish an agency function related to this system of records. Individuals provided information under this routine use are subject to the same Privacy Act requirements and limitations on disclosure as are applicable to the United States Patent and Trademark Office employees.

(5) Routine uses will also include the Prefatory Statement of General Routine Uses Nos. 1-5 and 8-10, and 13, as found at 46 FR 63501-63502 (December 31, 1981).

Disclosure to consumer reporting agencies:

Not applicable.

Policies and practices for storing, retrieving, accessing, retaining, and disposing of records in the system:

Storage:

Paper records in file folders.

Retrievability:

Filed by application serial number, cross-indexed to name of applicant.

Safeguards:

Buildings employ security guards. Records are stored in a locked vault and maintained in areas accessible only to authorized personnel who are properly screened, cleared, and trained.

Retention and disposal:

Records retention and disposal is in accordance with the series records schedules.

System manager(s) and address:

Director, Patent Examining Technology Center 3600, United States Patent and Trademark Office, 501 Dulany Street, Alexandria, VA 22314.

Notification procedure:

Information about the records contained in this system may be obtained by sending a request in writing, signed, to the system manager at the address above or to the address provided in 37 CFR part 102 subpart B for making inquiries about records covered by the Privacy Act. Requesters should provide their name, address, and record sought (including social security or Patent Number, if known) in accordance with the procedures for making inquiries appearing in 37 CFR part 102 subpart B.

Record access procedures:

Requests from individuals should be addressed as stated in the notification section above.

Contesting record procedures:

The general provisions for access, contesting contents, and appealing initial determinations by the individual concerned appear in 37 CFR part 102 subpart B. Requests from individuals should be addressed as stated in the notification section above.

Record source categories:

Subject applicants or their representatives and authorized representatives of the Department of Energy, the Secretary of Defense, and the Chief Officer of any other department or agency of the Government designated by the President as a defense agency of the United States.

Exemptions claimed for the system:

Pursuant to 5 U.S.C. 552a(k)(1), these records, since they relate to determinations pertinent to secrecy orders pursuant to 35 U.S.C. 181 or to security classification pursuant to E.O. 12065 or the Atomic Energy Act of 1954 are exempted from the notification, access, and contest requirements of the agency procedures (under 5 U.S.C. 552a(c)(3), (d), (e)(1), (e)(4)(G), (H), and (I), and (f)). This exemption is made to prevent disclosure of information which might be detrimental to national security and in accordance with agency rules, which appear in 37 CFR part 102 subpart B.

Dated: March 26, 2013.
Susan K. Fawcett,
Records Officer, USPTO, Office of the Chief Information Officer.

[FR Doc. 2013-07377 Filed 3-28-13; 8:45 am]

BILLING CODE 3510-16-P